DEPARTMENT OF THE INTERIOR

Bureau of Indian Affairs

Draft Environmental Impact Statement for the Proposed Desert Rock Energy Project and the Navajo Mine Extension Project, San Juan County, NM

AGENCY: Bureau of Indian Affairs, Interior.

ACTION: Notice.

SUMMARY: This notice advises the public that the Bureau of Indian Affairs (BIA) as lead agency, with the Navajo Nation, U.S. Bureau of Land Management (BLM), Office of Surface Mining, Reclamation and Enforcement (OSM), Environmental Protection Agency (EPA) and Army Corps of Engineers (USACE) as cooperating agencies, intends to file a Draft Environmental Impact Statement (DEIS) with the EPA for the proposed Desert Rock Energy and Navajo Mine Extension projects. The purpose of the proposed action is to help meet the economic development needs of the Navajo Nation. This notice also announces a series of public hearings to receive comments on the DEIS.

DATES: Written comments on the DEIS must arrive by August 20, 2007. The dates and times for the public hearings are as follows:

• July 17, 2007, 5 p.m. to 8 p.m.

• July 18, 2007 (2), 10 a.m. to 1 p.m. and 5 p.m. to 8 p.m.

• July 19, 2007, 1 p.m. to 4 p.m.

• July 20, 2007, 1 p.m. to 4 p.m.

• July 23, 2007 (2), 10 a.m. to 1 p.m. and 5 p.m. to 8 p.m.

• July 24, 2007 (2), 10 a.m. to 1 p.m. and 5 p.m. to 8 p.m.

• July 25, 2007, 10 a.m. to 1 p.m.

ADDRESSES: You may mail or hand carry written comments to Harrilene Yazzie, NEPA Coordinator, Navajo Regional Office, Bureau of Indian Affairs, P.O. Box 1060, Gallup, New Mexico 87305. Comments may also be sent by e-mail to the project Web site, http://www.desertrockenergy.com, or to the BIA contractor's e-mail account for this project, DesertrockEIS@urscorp.com. Please include the caption, “Desert Rock Energy Project DEIS Comments” at the top of your letter or in the subject line of your e-mail message; be specific in your comments and cite the chapter, page, paragraph, and sentence to which they pertain; and include your name and return address in your letter or message.

The DEIS is available for review at the BIA Office, 301 West Hill Street, Gallup, New Mexico 87305. A limited number of CD and paper copies of the DEIS are also available upon request. You may obtain a CD or paper copy by contacting Harrilene Yazzie at the BIA mailing address provided above, at her telephone number shown below, or by fax at (505) 863-8324.

The addresses/locations for the public hearings are as follows:

• July 17, 5 p.m. Farmington Civic Center, 200 West Arrington, Farmington, NM.

• July 18, 10 a.m. Ute Mountain Casino, Towaoc, CO. US 491/160, 11 miles south of Cortez, CO.

• July 18, 5 p.m. Iron Horse Inn, 5800 North Main Avenue, Durango, CO.

• July 19, 1 p.m. Indian Pueblo Cultural Center, 2401 12th Street, NW. (1 block north of I-40), Albuquerque, NM.

• July 20, 1 p.m. Larrazolo Auditorium, Runnels Building, 1190 St. Francis Drive, Santa Fe, NM.

• July 23, 10 a.m. Shiprock Chapter House, Shiprock, NM. US 491, across from the Catholic Church.

• July 23, 5 p.m. Nenahnezad Chapter House, Fruitland, NM. From US 64, go south on County Road 6675, through the stoplight and across the San Juan River Bridge. Take the first road on the right past the bridge for approximately 0.5 miles to the Chapter House.

• July 24, 10 a.m. Burnham Chapter House. From US 491 between Shiprock and Gallup, NM, go east at Burnham Junction for 12 miles on N-5. The Chapter House is on the south side of the road.

• July 24, 5 p.m. Veterans Memorial Center, Sanostee Chapter Compound, Road N-34, Sanostee, NM.

• July 25, 10 a.m. Navajo Nation Museum, Hwy. 264 and Postal Loop Road, Window Rock, AZ.

FOR FURTHER INFORMATION CONTACT: Harrilene Yazzie, (505) 863-8287.

SUPPLEMENTARY INFORMATION:

Background on the Desert Rock Energy Project

The DEIS discloses probable environmental effects of the proposed Desert Rock Energy Project (or referred to herein as Desert Rock Energy Project or proposed project/action) and the Navajo Mine Extension Project (or referred to herein as the Navajo Mine Extension Project or Area IV North, Area IV South and Area V of the BHP Navajo Coal Company [BNCC] Lease Area).

The applicants, Sithe Global Power, LLC (Sithe) by and through the Desert Rock Energy Company, LLC, and Diné Power Authority (DPA), a Navajo Nation enterprise, are proposing to develop and construct the Desert Rock Energy Project. Desert Rock Energy Company, LLC, entered into an agreement with DPA to develop and construct a coal-fired power plant on the Navajo Reservation. Desert Rock Energy Company, LLC, is a privately held, independent power company and a limited liability corporation formed under the laws of the State of Delaware. DPA was established by the Navajo Nation Council to develop utility-scale energy projects on behalf of the Navajo Nation for the economic benefit of the Navajo people.

The proposed project involves the construction and operation of a coal-fired electrical power plant that would generate up to 1,500 megawatts (MW) of power; the extension of existing surface coal mining operations at the Navajo Mine to provide fuel for the power plant; disposal of coal combustion by-products (CCBs); and mine reclamation operations, with associated mine support facilities and activities. The proposed project would also include a water well field with supply pipeline to the power plant, transmission lines, a receiving electrical station, other upgrades and ancillary facilities required in the production and transmission of electricity, and new access roads.

The proposed project is located approximately 30 miles southwest of Farmington in San Juan County, New Mexico, and is entirely on Indian trust lands within the exterior boundaries of the Navajo Nation. The power plant would be constructed on a 592-acre parcel immediately adjacent on the west to Area IV North of the BNCC Lease Area. The coal fuel supply would be produced from Areas IV South and V of the BNCC Lease Area and transported by conveyor to a proposed coal preparation facility located in Area IV North of the BNCC lease area, near the power plant.

Purpose and Need for the Proposed Project

The purpose of the proposed action is to help meet the Navajo Nation's need to benefit economically from the development of its coal resources. Construction of the Desert Rock power plant would address this need, as well as regional power needs in general, by

• Supporting the Navajo Nation's objective for economic development by providing long-term employment opportunities and revenue cash-flow streams from the sale of Navajo natural resources (e.g., water, coal);

• using Navajo Nation coal to generate electricity;

• helping meet the demand for up to 2,000 MW of electrical power in the rapidly growing southwestern United States; and

• providing fuel diversity, hence a more economically stable and predictable power supply for utilities in the Southwest.

Proposed Federal Agency Actions

The proposed action includes several elements that require approvals, grants of rights-of-way, or permits by Federal agencies and the Navajo Nation. These are as follows:

• BIA-Approval of the long-term business land lease between DPA and the Navajo Nation, of the sublease between DPA and Desert Rock Energy Company, LLC, and of the rights-of-way requested for the proposed project.

• OSM-Approval of revisions to BNCC's current SMCRA permit to allow development of coal processing facilities, conveyance systems, and infrastructure in Area IV North of the BNCC Lease Area and approval of a future SMCRA permit application to allow coal mining, CCB disposal, and reclamation activities in Area IV South and Area V of the BNCC Lease Area.

• BLM-Approval of the Resource Recovery and Protection Plan or a Mine Plan of Operations for Area IV South and Area V of the BNCC Lease Area.

• USACE-Approval of an Individual Permit for the Desert Rock Energy Project under Section 404 of the Clean Water Act (CWA) and of Nationwide Permits or an Individual Permit under Section 404 of the CWA for the mining operations in Area IV South and Area V of the BNCC Lease Area.

• EPA-Approval of a significant revision to BNCC's National Pollutant Discharge Elimination System (NPDES) permit associated with the mining and reclamation operations and coal preparation facilities. Whether this constitute a new source permitting action subject to the National Environmental Policy Act is determined by criteria set forth in 40 CFR 122.29(b).

• Navajo Nation—The Navajo Nation's action, as a sovereign government and cooperating agency, is the approval of a land lease package that ensures economic development on tribal lands in compliance with the Navajo Nation Code and applicable Federal law.

The above approvals, taken together, constitute the Proposed Action, which consists of (1) the construction, operation, and maintenance of the Desert Rock Energy Project and associated water supply wells, water supply pipelines, transmission system interconnection, other facilities required for the generation and distribution of electrical power, and new access roads; and (2) the approval of surface coal mining, CCB disposal, and reclamation operations at the Navajo Mine Extension Project to supply coal to the Desert Rock power plant.

Public Meetings

Public meetings on the DEIS will include, (1) a presentation on the Desert Rock Energy Project and DEIS, (2) an area with displays where meeting attendees may discuss the project proposal and the EIS process with BIA and others, (3) an area where meeting attendees may record and submit written comments, and (4) an area where an BIA representative and a transcriber will record oral comments. To assist the transcriber and ensure an accurate record, BIA requests that each presenter of oral comments provide a written copy of his or her comments, if possible. A Navajo interpreter will be present at the meetings on the Navajo Indian Reservation.

If you are disabled or need special accommodations to attend one of the meetings, contact the person under the FOR FURTHER INFORMATION CONTACT section above at least one week before the meeting.

Public Comment Availability

Comments, including names and addresses of respondents, will be available for public review at the mailing address shown in the ADDRESSES section, during regular business hours, 8:00 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR, parts 1500 through 1508) implementing the procedural requirements of the National Environmental Policy Act of 1969, as amended (42 U.S.C. 4321 et. seq.), and the Department of the Interior Manual (516 DM 1-6), and is in the exercise of authority delegated to the Assistant Secretary—Indian Affairs by 209 DM 8.

Willie R. Taylor,
Director,Office of Environmental Policy and Compliance.

[FR Doc. E7-11905 Filed 6-19-07; 8:45 am]

BILLING CODE 4310-W7-P